FEDERAL COMMUNICATIONS COMMISSION

[CC Docket No. 92-237; DA 11-1729]

GSA Approves Renewal of North American Numbering Council Charter Through September 23, 2013

AGENCY: Federal Communications Commission.

ACTION: Notice.

SUMMARY: On October 18, 2011, the Commission released a public notice announcing GSA's approval of the renewal of the North American Numbering Council charter through September 23, 2013. The intended effect of this action is to make the public aware of the renewal of the North American Numbering Council charter.

DATES: Renewed through September 23, 2013.

ADDRESSES: Competition Policy Division, Wireline Competition Bureau, Federal Communications Commission, The Portals II, 445 12th Street SW., Suite 5-C162, Washington, DC 20554.

FOR FURTHER INFORMATION CONTACT: Deborah Blue, Special Assistant to the Designated Federal Officer (DFO) at (202) 418-1466 or Deborah.Blue@fcc.gov. The fax number is: (202) 418-1413. The TTY number is: (202) 418-0484.

SUPPLEMENTARY INFORMATION: The General Services Administration (GSA) has renewed the charter of the North American Numbering Council (NANC or Council) through September 23, 2013. The Council will continue to advise the Federal Communications Commission (Commission) on rapidly evolving and competitively significant numbering issues facing the telecommunications industry.

In October 1995, the Commission established the NANC, a Federal advisory committee created pursuant to the Federal Advisory Committee Act, 5 U.S.C., App. 2 (1988), to advise the Commission on issues related to North American Numbering Plan (NANP) administration. The Commission filed the original charter of the Council on October 5, 1995, establishing an initial two-year term. The Wireline Competition Bureau (Bureau) has renewed this charter every two years since that date. Since the last charter renewal, the Council has provided the Commission with critically important recommendations, such as the NANC's proposed method of selecting a Local Number Portability Administrator. In addition, the Council recommended porting intervals for simple, non-simple, and project ports, along with provisioning flows to support those recommended porting intervals. The Council also provided detailed annual evaluations of the current North American Numbering Plan Administrator (NANPA), the Pooling Administrator (PA), and the Billing and Collection (B and C) Agent. The Council will continue to evaluate the performances of the NANPA, the PA, and the B and C Agent on an annual basis. Moreover, the Council is presently considering and formulating recommendations on other important numbering-related issues that will require work beyond the term of the present charter.

The value of this Federal advisory committee to the telecommunications industry and to the American public cannot be overstated. Telephone numbers are the means by which consumers gain access to, and reap the benefits of, the public switched telephone network. The Council's recommendations to the Commission will facilitate fair and efficient number administration in the United States, and will ensure that numbering resources are available to all telecommunications service providers on a fair and equitable basis, consistent with the requirements of the Telecommunications Act of 1996.

Federal Communications Commission.
Marilyn Jones,
Attorney, Wireline Competition Bureau.

[FR Doc. 2011-28698 Filed 11-4-11; 8:45 am]

BILLING CODE 6712-01-P